DEPARTMENT OF TRANSPORTATION

Coast Guard

33 CFR Part 100

[CGD 13-01-020]

RIN 2115-AE46

Special Local Regulations for Marine Events; Columbia River, Vicinity of Clover Island to Goat Island, Kennewick/Pasco, WA

AGENCY: Coast Guard, DOT.

ACTION: Notice of implementation.

SUMMARY: The Coast Guard is implementing the special local regulations at 33 CFR 100.1303 during the annual Kennewick, Washington, Columbia Unlimited Hydroplane Races, over the waters of the Columbia River, adjacent to Columbia Park, Kennewick, Washington. These special local regulations are necessary to control vessel traffic due to the confined nature of the waterway, the high operating speeds of the hydroplanes, and expected vessel congestion during this annual event. The effect will be to restrict general navigation and anchoring throughout the regulated area for the safety of spectators, racers and vessels transiting the event area.

EFFECTIVE DATES: 33 CFR 100.1303 is effective on July 24, 2001 from 8:30 a.m. local time through July 29, 2001, 7:30 p.m. local time.

FOR FURTHER INFORMATION CONTACT: CWO Bob Coster, Marine Events Coordinator, Commander, Coast Guard Group/MSO Portland, 6767 N. Basin Avenue, Portland, OR, 97217-9399, (503) 240-9324/27.

SUPPLEMENTARY INFORMATION: The Tri-City Water Follies will sponsor the Columbia Cup Unlimited Hydroplane races from July 24, 2001 through July 29, 2001 over the waters of the Columbia River between a line bounded by position 46-14′-07″ north latitude, 119-10′-42″ west longitude and 46-13′-42″ north latitude, 119-10′-51″ west longitude, near Goat Island, and a second line bounded by position 46-13′-35″ north latitude, 119-07′-34″ west longitude and 46-13′10″ north latitude, 119-07′-47″ west longitude near Clover Island [Datum: NAD 83]. The special local regulation found at 33 CFR 100.1303 will be enforced from July 24, 2001, through July 29, 2001, between the hours of 8:30 a.m. local time until the last race is completed each day at approximately 7:30 p.m. local time. Under provisions of 33 CFR 100.1303, a vessel may not enter, transit or anchor in the regulated area unless it receives permission from the Coast Guard Patrol Commander. Vessels entering the regulated area under the control of the Patrol Commander shall do so only at speeds which will create minimum wake consistent with maintaining steerageway, and not to exceed seven (7) miles an hour. This speed may be adjusted at the discretion of the Patrol Commander to enhance the level of safety. Spectator vessels may anchor outside the regulated area but may not block a navigable channel.

In addition to this notice, the maritime community will be provided extensive advance notification via the Local Notice to Mariners, marine information broadcasts, and area newspapers, so mariners can adjust their plans accordingly.

Dated: July 12, 2001.
James D. Spitzer,
Captain, U.S. Coast Guard, Captain of the Port, Portland, OR.

[FR Doc. 01-18242 Filed 7-20-01; 8:45 am]

BILLING CODE 4910-15-U